DEPARTMENT OF ENERGY

Office of Arms Control and Nonproliferation Proposed Subsequent Arrangement

AGENCY: Department of Energy.

ACTION: Notice of Subsequent Arrangement.

SUMMARY: This notice is being issued under the authority of Section 131 of the Atomic Energy Act of 1954, as amended (42 U.S.C. 2160). The Department is providing notice of a proposed “subsequent arrangement” under Article 6 paragraph 2 of the Agreement for Cooperation Between the Government of the United States of America and the Government of the Argentine Republic Concerning Peaceful Uses of Nuclear Energy.

This subsequent arrangement concerns the alteration in form or content of 311.52 grams of irradiated highly enriched uranium (HEU) dissolved in nitric acid currently stored in a hot cell as waste at the Argentine Nuclear Energy Commission (CNEA) Ezeiza Atomic Center near Buenos Aires. The reactor at the Ezeiza facility is in the process of converting to the use of low enriched uranium for molybdenum-99 production and needs to transfer the HEU for storage elsewhere. CNEA officials plan to precipitate the HEU from solution and retain the solid uranium in a stainless steel filtration unit. The uranium will be transported to and stored as a solid at CNEA's Waste Management area. All inventory changes will be made according to the safeguards agreements currently in effect.

In accordance with Section 131 of the Atomic Energy Act of 1954, as amended, we have determined that this subsequent arrangement will not be inimical to the common defense and security.

This subsequent arrangement will take effect no sooner than fifteen days after the date of publication of this notice.

For the Department of Energy.
Trisha Dedik,
Director, Office of Nonproliferation Policy.

[FR Doc. 02-8821 Filed 4-10-02; 8:45 am]

BILLING CODE 6450-01-P